DEPARTMENT OF DEFENSE

Department of the Army

Notice of Availability of a Record of Decision (ROD) for Base Realignment and Closure Actions at Aberdeen Proving Ground, MD

AGENCY: Department of the Army, DoD.

ACTION: Record of Decision (ROD).

SUMMARY: The Department of the Army announces the availability of a ROD which summarizes the decision for implementing realignment actions as directed by the Base Realignment and Closure (BRAC) Commission at Aberdeen Providing Ground (APG), Maryland.

ADDRESSES: To obtain copies of the ROD, contact Mr. Buddy Keesee at: Department of the Army, Directorate of Safety, Health, and Environment, Attention: IMNE-APG-SHE-R, Building 5650, Aberdeen Proving Ground, MD 21005-5001; e-mail Buddy.Keesee@us.army.mil.

FOR FURTHER INFORMATION CONTACT: Mr. Buddy Keesee at (410) 278-6755 during normal business hours.

SUPPLEMENTARY INFORMATION: The Army has decided to proceed with implementing the Preferred Alternative consistent with the analysis in the Environmental Impact Statement (EIS) dated July 2007, supporting studies, and comments provided during normal comment and review periods. The Proposed Action includes construction, renovation, and operation of proposed facilities to accommodate incoming military missions at APG. To implement the BRAC recommendations, APG will be receiving personnel, equipment, and missions from various closure and realignment actions within the Department of Defense. To implement the BRAC Commission recommendations, the Army will provide the necessary facilities, buildings, and infrastructure to support incoming military missions and a net gain of about 4,400 people as mandated by the 2005 BRAC Commission's recommendations at APG. The No Action Alternative would not meet the Army's purpose and need for the Proposed Action as the BRAC realignment is required by Congress and needed for Army transformation to be effective.

Special consideration was given to the effect of the Preferred Alternative on natural resources, cultural resources, and traffic. All practicable means to avoid or minimize environmental harm from the Preferred Alternative have been adopted. The Army will minimize effects on all environmental and socioeconomic resources by implementing best management practices as described in the EIS. Mitigation measures, as described in the ROD, will be implemented, subject to the availability of funding, to minimize, avoid, or compensate for the adverse effects identified in the EIS at APG for biological resources and cultural resources. The EIS also identifies transportation projects that could eliminate adverse impacts from implementing the Preferred Alternative. The ROD describes the disposition of these projects and the approach the Army will take to mitigate traffic concerns.

The ROD states that implementing the Preferred Alternative reflects a proper balance between initiatives for protection of the environment, appropriate mitigation, and actions to achieve the Army's requirements.

An electronic version of the ROD is available for download at: http://www.hqda.army.mil/acsim/brac/nepa_eis_docs.htm.

Dated: August 20, 2007.
Addison D. Davis, IV,
Deputy Assistant Secretary of the Army (Environment, Safety and Occupational Health).

[FR Doc. 07-4191 Filed 8-24-07; 8:45 am]

BILLING CODE 3710-08-M